ENVIRONMENTAL PROTECTION AGENCY

[EPA-HQ-OPP-2005-0558; FRL-8421-1]

Coppers Amendment to the Reregistration Eligibility Decision

AGENCY: Environmental Protection Agency (EPA).

ACTION: Notice.

SUMMARY: This notice announces EPA's decision to modify certain provisions that were specified in the 2006 Reregistration Eligibility Decision (RED) for the copper pesticides. EPA conducted this reassessment of the Coppers RED in response to public comments received during the comment period, and updated information that would impact product labeling. Based on the new information received, and in a continuing effort to mitigate risk, the Agency has made certain modifications in the Coppers RED.

FOR FURTHER INFORMATION CONTACT: Rosanna Louie, Special Review and Reregistration Division (7508P), Office of Pesticide Programs, Environmental Protection Agency, 1200 Pennsylvania Ave., NW., Washington, DC 20460-0001; telephone number: (703) 308-0037; fax number: (703) 308-8090; e-mail address: louie.rosanna@epa.gov

SUPPLEMENTARY INFORMATION:

I. General Information

A. Does This Action Apply to Me?

This action is directed to the public in general, and may be of interest to a wide range of stakeholders including environmental, human health, farm worker and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of This Document and Other Related Information?

1. Docket. EPA has established a docket for this action under docket identification (ID) number EPA-HQ-OPP-2005-0558. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action Is the Agency Taking?

Section 4 of the Federal Insecticide, Fungicide, and Rodenticide Act (FIFRA) directs EPA to reevaluate existing pesticides to ensure that they meet current scientific and regulatory standards. In 2006, EPA issued a RED for coppers under section 4(g)(2)(A) of FIFRA. In response to a notice of availability published in the Federal Register of August 9, 2006 (71 FR 45550) (FRL-8085-4), the Agency received substantive comments and information from commenters. The amended Coppers RED reflects changes resulting from Agency consideration of these comments received on the RED, as well as efforts by the Agency to appropriately mitigate overall risk. The RED amendment for coppers concludes EPA's reregistration eligibility decision-making process for this pesticide.

A total of 46 submissions were received, which included comments from various growers that use copper products, university extension services, registrants, and publicly-owned treatment works facilities. Comments received during the public comment period included information on application rates, copper use in aquatic areas and water treatment facilities, and human health exposures. In consideration of these comments, and other decisions that occurred after the RED was published, the RED has been updated to reflect current product labeling requirements. Appendix A, which is a summary of the use sites and application rates eligible for reregistration, has been updated based on input received from stakeholders. The label table has also been revised to include modifications to some of the restricted entry intervals after copper pesticide applications, labeling language for spray drift management requirements, and personal protective equipment requirements for workers who handle and apply copper pesticides.

B. What Is the Agency's Authority for Taking This Action?

Section 4(g)(2) of FIFRA, as amended, directs that, after submission of all data concerning a pesticide active ingredient, “the Administrator shall determine whether pesticides containing such active ingredient are eligible for reregistration,” before calling in product specific data on individual end-use products and either reregistering products or taking other “appropriate regulatory action.”

List of Subjects

Environmental protection, Pesticides and pests, Coppers.

Dated: June 6, 2009.
Richard P. Keigwin, Jr.,
Director, Special Review and Reregistration Division, Office of Pesticide Programs.

[FR Doc. E9-14336 Filed 6-18-09; 8:45 am]

BILLING CODE 6560-50-S